DEPARTMENT OF HEALTH AND HUMAN SERVICES

National Institutes of Health

Proposed Collection; 60-Day Comment Request; Generic Clearance for the Collection of Customer Participation and Performance Management With NIH Programs, Products, and Services (National Institutes of Health)

AGENCY: National Institutes of Health, HHS.

ACTION: Notice.

SUMMARY: In compliance with the requirement of the Paperwork Reduction Act of 1995 to provide an opportunity for public comment on proposed data collection projects, the National Institutes of Health, National Cancer Institute (NCI) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Diane Kreinbrink, Program Manager, Office of Management Policy and Compliance, National Cancer Institute, 9609 Medical Center Drive, Room 2W446, Bethesda, Maryland, 20892 or call non-toll-free number (240) 276-7283 or email your request, including your address to: diane.kreinbrink@nih.gov. Formal requests for additional plans and instruments must be requested in writing.

SUPPLEMENTARY INFORMATION: Section 3506(c)(2)(A) of the Paperwork Reduction Act of 1995 requires: written comments and/or suggestions from the public, and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Generic Clearance for the Collection of Customer Participation and Performance Management with NIH Programs, Products, and Services (NIH), 0925-XXXX: Expiration Date XX/XX/XXXX, NEW, National Institutes of Health (NIH).

Need and Use of Information Collection: Evaluating the effectiveness of leadership, programs, and services is essential for the vitality of any institution. Leadership review at NIH focuses on the productivity of the IC, management of resources and budget allocations, training activities, and influence on dimensions of diversity, inclusion, promotion of investigators and staff (including NIH Equity Committee (NEC) reports), and positive workforce culture.

Program and service reviews may focus on operational performance; outputs, outcomes, and impacts; policy compliance, stewardship, diversity, equity, and inclusion. Both types of reviews and evaluations may solicit input from IC staff and leadership (IC Director, Deputy Director, E.O.) and relevant program participants and stakeholders about the program's effectiveness, leader, or process. They may include comparisons with other ICs or programs, external benchmarks, and outcome metrics where appropriate and applicable. This input should provide meaningful information that can be used to identify strengths and areas that need improvement. Reports developed from the review or evaluation may be presented by the IC Director to the IC's Advisory Council or Board, to other IC or NIH leadership (such as the Deputy Director for Intramural Research and the NIH Director), or to program participants or the broader public. Such reports may include recommendations and proposed actions to address areas for improvement. In public or broadly shared reports, any sensitive information in the reviews or evaluations will be summarized and presented in aggregate.

This clearance will allow direct assessment and measurement of the customer/respondent base for participation in and satisfaction with NIH programs, products, and services. The clearance will also enable offices to assess participants' experience and accomplishments during or since participation and their preferences for existing and future programming, products, and services. The information collected using these tools informs and supports budgeting, program management and design, program planning, results reporting, information dissemination, and outreach initiatives.

OMB approval is requested for 3 years. There are no costs to respondents other than their time. The total estimated annualized burden hours are 3,375.

Estimated Annualized Burden Hours
Type of respondent | Form name | Number of respondents | Number of responses per respondent | Average burden per response (in hours) | Total burden hour
Individuals, Households, Private Sector, State Government, Local Government, Tribal Government, or Federal Government | Performance Measurement | 500 | 1 | 30/60 | 250
| Interviews | 1,000 | 1 | 1 | 1,000
| Program Reviews | 500 | 1 | 45/60 | 375
| Surveys | 5,000 | 1 | 15/60 | 1,250
| Focus Groups | 500 | 1 | 1 | 500
Totals |  |  | 7,500 |  | 3,375

Dated: May 3, 2023.
Diane Kreinbrink,
Project Clearance Liaison, National Cancer Institute, National Institutes of Health.

[FR Doc. 2023-09708 Filed 5-5-23; 8:45 am]

BILLING CODE 4140-01-P